SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before July 30, 2024.

ADDRESSES: Send all comments to Donna Fudge, donna.fudge@sba.gov, (202) 205-6363, Office of Policy Planning and Liaison, Small Business Administration.

FOR FURTHER INFORMATION CONTACT: Donna Fudge, donna.fudge@sba.gov, (202) 205-6363, Office of Policy Planning and Liaison, Small Business Administration. Curtis B. Rich, Agency Clearance Officer curtis.rich@sba.gov 202-205-7030.

SUPPLEMENTARY INFORMATION: SBA is considering revising its information collections for various certification programs to streamline the certification process for those programs. In particular, SBA seeks to make the programs more uniform so that small businesses applying for multiple certifications face a common standard of review where possible. The certification programs affected are the 8(a) Business Development (BD) program, the women-owned small business program, the veteran-owned small business program, and the HUBZone program.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: 3245-0374.

(1) Title: Certification for the Women-Owned Small Business Federal Contract Program.

Description of Respondents: This information is collected from firms that are seeking to be certified for the Women-Owned Small Business (WOSB) Contracting Program and from Third-Party Certifiers that are approved to provide certifications acceptable to SBA. SBA will use the information to certify firms. Third-party certifiers will use the information to assess applicants' eligibility and make determinations regarding certification.

Form Number: SBA Form 2413—Women-Owned Small Business (WOSB) Certification—WOSBs, SBA Form 2414—Women-Owned Small Business (WOSB) Certification—EDWOSBs.

Total Estimated Annual Responses: 12,347.

Total Estimated Annual Hour Burden: 37,041.

Curtis B. Rich,
Agency Clearance Officer.

[FR Doc. 2024-11961 Filed 5-30-24; 8:45 am]

BILLING CODE 8026-09-P